DEPARTMENT OF TRANSPORTATION

Federal Aviation Administration

14 CFR Part 39

[Docket No. 2001-NM-201-AD; Amendment 39-13706; AD 2004-13-24]

RIN 2120-AA64

Airworthiness Directives; Airbus Model A310 Series Airplanes

AGENCY: Federal Aviation Administration, DOT.

ACTION: Final rule.

SUMMARY: This amendment adopts a new airworthiness directive (AD), applicable to all Airbus Model A310 series airplanes, that requires inspecting the pressure-off brakes (POBs) installed on the power control units of the slats and flaps to determine their serial numbers; and replacing any POBs having affected serial numbers with new, serviceable, or modified POBs. This action is necessary to prevent failure of the retaining ring on the POBs, which could result in slat or flap blowback or runaway, with consequent reduced controllability of the airplane. This action is intended to address the identified unsafe condition.

DATES: Effective August 13, 2004.

The incorporation by reference of a certain publication listed in the regulations is approved by the Director of the Federal Register as of August 13, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Airbus Model A310 series airplanes was published in the Federal Register on April 1, 2004 (69 FR 17111). That action proposed to require inspecting the pressure-off brakes (POBs) installed on the power control units of the slats and flaps to determine their serial numbers; and replacing any POBs having affected serial numbers with new, serviceable, or modified POBs.

Comments

We provided the public the opportunity to participate in the development of this AD. No comments have been submitted on the proposed AD or on the determination of the cost to the public.

Conclusion

We have carefully reviewed the available data and determined that air safety and the public interest require adopting the AD as proposed.

Cost Impact

We estimate that 46 airplanes of U.S. registry will be affected by this AD, that it will take approximately 1 work hour per airplane to accomplish the required actions, and that the average labor rate is $65 per work hour. Based on these figures, the cost impact of the AD on U.S. operators is estimated to be $2,990, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-13-24 Airbus: Amendment 39-13706. Docket 2001-NM-201-AD.

Applicability: All Model A310 series airplanes, certificated in any category.

Compliance: Required as indicated, unless accomplished previously.

To prevent failure of the retaining ring on the pressure-off brakes (POBs) of the power control units of the slats and flaps, which could result in slat or flap blowback or runaway, with consequent reduced controllability of the airplane, accomplish the following:

Inspection

(a) Within 18 months after the effective date of this AD: Inspect the identification plates of the POBs installed on the power control units of the slats and flaps to determine the serial numbers of the POBs, in accordance with the Accomplishment Instructions of Airbus Service Bulletin A310-27-2096, Revision 01, dated September 19, 2001.

Note 1: Airbus Service Bulletin A310-27-2096, Revision 01, dated September 19, 2001, refers to Liebherr-Aerospace Lindenberg Service Bulletin 511A0100-27-03, dated November 16, 2000, as the appropriate source for identifying affected serial numbers of POBs, and as an additional source of service information for replacing affected POBs.

Replacement

(b) For any POB with an affected serial number, as identified in Airbus Service Bulletin A310-27-2096, Revision 01, dated September 19, 2001: Before further flight, replace the POB with a new or serviceable POB that does not have an affected serial number, or with a POB that has been modified per the Accomplishment Instructions of Airbus Service Bulletin A310-27-2096, Revision 01, dated September 19, 2001. Replace the POB per the Accomplishment Instructions of Airbus Service Bulletin A310-27-2096, Revision 01, dated September 19, 2001.

Actions Accomplished Previously

(c) Inspections and replacements accomplished before the effective date of this AD per Airbus Service Bulletin A310-27-2096, dated March 21, 2001, are acceptable for compliance with the corresponding actions required by this AD.

Parts Installation

(d) As of the effective date of this AD, no person may install, on any airplane, a POB with a part number and serial number listed in Airbus Service Bulletin A310-27-2096, Revision 01, dated September 19, 2001.

No Reporting or Return of Parts Is Required

(e) Although the service bulletins referenced in this AD specify to submit certain information and return POBs with affected serial numbers to the POB manufacturer, this AD does not include such a requirement.

Alternative Methods of Compliance

(f) In accordance with 14 CFR 39.19, the Manager, International Branch, ANM-116, Transport Airplane Directorate, FAA, is authorized to approve alternative methods of compliance for this AD.

Incorporation by Reference

(g) Unless otherwise specified in this AD, the actions shall be done in accordance with Airbus Service Bulletin A310-27-2096, Revision 01, dated September 19, 2001. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 2: The subject of this AD is addressed in French airworthiness directive 2001-185(B), dated May 16, 2001.

Effective Date

(h) This amendment becomes effective on August 13, 2004.

Issued in Renton, Washington, on June 24, 2004.
Kalene C. Yanamura,
Acting Manager, Transport Airplane Directorate, Aircraft Certification Service.

[FR Doc. 04-15370 Filed 7-8-04; 8:45 am]

BILLING CODE 4910-13-P